NATIONAL SCIENCE FOUNDATION

Agency Information Collection Activities: Comment Request: NSF INCLUDES National Network Survey

AGENCY: National Science Foundation.

ACTION: Notice.

SUMMARY: The National Science Foundation (NSF) is announcing plans to establish this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by August 14, 2020 to be assured consideration. Comments received after that date will be considered to the extent practicable. Send comments to address below.

FOR FURTHER INFORMATION CONTACT: Suzanne H. Plimpton, Reports Clearance Officer, National Science Foundation, 2415 Eisenhower Avenue, Suite W18200, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: NSF INCLUDES National Network Survey.

OMB Number: 3145-NEW.

Expiration Date of Approval: Not applicable.

Type of Request: Intent to seek approval to establish an information collection.

Abstract: In 2016, the National Science Foundation (NSF) unveiled a set of “Big Ideas,” 10 bold, long-term research and process ideas that identify areas for future investment at the frontiers of science and engineering (see https://www.nsf.gov/news/special_reports/big_ideas/index.jsp). The Big Ideas represent unique opportunities to position our Nation at the cutting edge of global science and engineering leadership by bringing together diverse disciplinary perspectives to support convergence research.

The NSF INCLUDES Big Idea is a comprehensive national initiative to enhance U.S. leadership in science, technology, engineering, and mathematics (STEM) discoveries and innovations focused on NSF's commitment to diversity, inclusion, and broadening participation in these fields. The vision of NSF INCLUDES is to catalyze the STEM enterprise to work collaboratively for inclusive change, resulting in a STEM workforce that reflects the population of the Nation.

More specifically, NSF INCLUDES seeks to improve collaborative efforts aimed at enhancing the preparation, increasing the participation, and ensuring the contributions of individuals from groups that have been historically underrepresented and underserved in the STEM enterprise such as African Americans, Alaska Natives, Hispanics, Native Americans, Native Hawaiians, Native Pacific Islanders, persons with disabilities, persons from economically disadvantaged backgrounds, and women and girls. Significant advancement in the inclusion of underrepresented groups in STEM will result in a new generation of STEM talent and leadership to secure our nation's future and long-term economic competitiveness.

The NSF INCLUDES Big Idea aligns with the NSF Strategic Plan, directly supporting the strategic objectives to: Advance knowledge through investments in ideas, people, and infrastructure (Strategic Objective 1.1); support research and promote partnerships to accelerate innovation and to provide new capabilities to meet pressing societal needs (Strategic Objective 2.1); foster the growth of a more capable and diverse research workforce and advance the scientific and innovation skills of the Nation (Strategic Objective 2.2) ; and attract, retain, and empower a talented and diverse workforce (Strategic Objective 3.1). The work of NSF INCLUDES contributes to the successful performance of NSF as a Federal agency.

The NSF INCLUDES initiative is supported by the NSF INCLUDES Coordination Hub (www.includesnetwork.org), an NSF-supported project that provides a framework for communication and networking, network assistance and reinforcement, and visibility and expansion for the NSF INCLUDES National Network. The Hub leads and supports the National Network, working to (1) facilitate the sharing of promising practices and data for broadening participation in STEM, (2) contribute to the knowledge base on broadening participation in STEM through research, and (3) establish a framework for communications and networking among partners, as well as across the National Network. The NSF INCLUDES National Network is composed of over 1200 members that represent:

• NSF INCLUDES-funded projects,

• Other broadening participation projects and research efforts, including projects funded by other NSF programs (e.g., Louis Stokes Alliances for Minority Participation, Engineering Research Centers, Alliances for Graduate Education and the Professoriate, ADVANCE: Organizational Change for Gender Equity in STEM Academic Professions, Broadening Participation in Computing, Improving Undergraduate STEM Education),

• Federal Coordination in STEM (FC-STEM) agencies, and

• Organizations that support the development of talent from all sectors of society to build an inclusive STEM workforce.

NSF is requesting OMB approval for the NSF INCLUDES Coordination Hub to collect information from members of the NSF INCLUDES National Network. The NSF INCLUDES Coordination Hub seeks to collect data from Network members to: (1) Inform Hub activities (e.g., to identify support needs in the coming year; to inform shared measures work and network support and expansion goals); (2) assess development of the NSF INCLUDES National Network; and (3) track progress against the Hub's theory of action for building collaborative infrastructure at the Network level. This information will be shared with Network members.

Information collected will include respondents' names, their affiliated organizations, email addresses, and home states. This personally identifiable information (PII) is collected primarily to categorize responses based on respondents' roles in the NSF INCLUDES National Network. PII will be accessed only by the Coordination Hub. Any public reporting of data will be in aggregate form, and any personal identifiers will be removed.

Use of the Information: The information collected is primarily for the use of the NSF INCLUDES Coordination Hub to understand the utility of the network in supporting their project success, and for informing design decisions the Coordination Hub will make regarding future programming and support provided to network members.

Estimate burden on the public: Estimated at 450 hours, per year, for the duration of the Coordination Hub's cooperative agreement with NSF. It is beneficial for NSF and the Coordination Hub to have access to this information annually in order to track progress toward the NSF INCLUDES goals of supporting stakeholders in identifying shared goals and objectives and supporting partnerships and networks that help to foster the spread and adaptation of proven effective practices.

Respondents: All members of the NSF INCLUDES National Network will be invited to respond to the survey. The NSF INCLUDES National Network is comprised of individuals who are interested in or working directly to broaden participation in STEM. Some of these individuals are NSF INCLUDES grantees; others who have received NSF awards, or pursue broadening participation in STEM with support from other sources, including grants from federal, state, philanthropic, or business entities. Some are themselves representatives of these various types of funders or businesses, such as program officers at NSF, other Federal agencies, and private foundations.

Estimated number of respondents: 900 (representing a 75% response rate).

Average Time per Reporting: The online survey is comprised primarily of closed-ended questions and is designed to be completed by respondents in under 30 minutes.

Frequency: Once per year for the duration of the Coordination Hub's cooperative agreement with NSF

Comments: Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

Please submit one copy of your comments by only one method. All submissions received must include the agency name and collection name identified above for this information collection. Commenters are strongly encouraged to transmit their comments electronically via email. Comments, including any personal information provided become a matter of public record. They will be summarized and/or included in the request for Office of Management and Budget approval of the information collection request.

Dated: June 10, 2020.
Suzanne H. Plimpton,
Reports Clearance Officer, National Science Foundation.

[FR Doc. 2020-12865 Filed 6-12-20; 8:45 am]

BILLING CODE 7555-01-P